DEPARTMENT OF ENERGY

Federal Energy Regulatory Commission

[Docket No. RP00-633-000]

Southern Natural Gas; Notice of Tariff Filing

October 5, 2000.

Take notice that on September 28, 2000, Southern Natural Gas Company (Southern), tendered for filing to part of its FERC Gas Tariff, Seventh Revised Volume No. 1, Second Revised Sheet No. 191. Southern requests that the Commission approve the revised tariff sheet effective November 1, 2000.

Southern states that the filed tariff sheet is being filed to reference the revised reporting requirements in Section 161.3(1)(2) of the Commission's Regulations with respect to marketing affiliates.

Any person desiring to be heard or to protest said filing should file a motion to intervene or a protest with the Federal Energy Regulatory Commission, 888 First Street, NE., Washington DC 20426, in accordance with Sections 385.214 or 385.211 of the Commission's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance).

Linwood A. Watson, Jr.,
Acting Secretary.

[FR Doc. 00-26130 Filed 10-11-00; 8:45 am]

BILLING CODE 6717-01-M